DEPARTMENT OF JUSTICE

Drug Enforcement Administration

Manufacturer of Controlled Substances; Notice of Registration

By notice dated February 4, 2004, and published in the Federal Register on February 18, 2004, (69 FR 7657), Norac Corporation, 405 S. Motor Avenue P.O. Box 577, Azusa, California 91702, made application by renewal to the Drug Enforcement Administration (DEA) for registration as a bulk manufacturer of THC Tetrahydrocannabinols (7370), a basic class of controlled substance listed in Schedule I.

The firm plans to manufacture the controlled substances for formulation into pharmaceutical products.

No comments or objections have been received. DEA has considered the factors in Title 21, United States Code, section 823(a) and determined that the registration of Norac Corporation to manufacture the listed controlled substance is consistent with the public interest at this time. DEA has investigated Norac Corporation to ensure that the company's registration is consistent with the public interest. This investigation has included inspection and testing of the company's physical security systems, verification of the company's compliance with state and local laws, and a review of the company's background and history. Therefore, pursuant to Title 21 United States Code 823 and Title 28 Code of Federal Regulations 0.100 and 0.104, the above firm is granted registration as a bulk manufacturer of the basic class(es) of controlled substance(s) listed.

Dated: June 28, 2004.
William J. Walker,
Deputy Assistant Administrator, Office of Diversion Control, Drug Enforcement Administration.

[FR Doc. 04-18170 Filed 8-9-04; 8:45 am]

BILLING CODE 4410-09-M